DEPARTMENT OF DEFENSE

Office of the Secretary

[Transmittal No. 21-49]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-49 with attached Policy Justification.

Dated: March 16, 2023.
Aaron T. Siegel,
Alternate OSD Federal Register Liaison Officer, Department of Defense.

BILLING CODE 5001-06-P

BILLING CODE 5001-06-C

Transmittal No. 21-49

Notice of Proposed Issuance of Letter of Offer Pursuant to Section 36(b)(1) of the Arms Export Control Act, as amended

(i) Prospective Purchaser: Government of Greece

(ii) Total Estimated Value:

Major Defense Equipment * | $ 0 million
Other | $270 million
TOTAL | $270 million
Funding Source: National Funds

(iii) Description and Quantity or Quantities of Articles or Services under Consideration for Purchase:

Major Defense Equipment (MDE):

None

Non-MDE:

Included are U.S. Government and contractor engineering, technical, and logistics support services for F-16 Aircraft Structural Integrity Program (ASIP), F-16 Aircrew Training Device (ATD), Low Altitude Targeting and Infrared for Night (LANTIRN), and Reconnaissance (RECCE) Pods support programs; aircraft classified and unclassified aircraft software and software support; Multifunctional Information Distribution System (MIDS) software support; Joint Mission Planning Software (JMPS) support; participation in Electronic Combat International Security Assistance Program (ECISAP), International Engine Management Program (IEMP), and technical coordination groups; other aircraft and engine hardware and software modifications and support; spare and repair/return parts and equipment; personnel training and training equipment; publications, manuals, and technical documentation; and other related elements of aircraft maintenance and program support.

(iv) Military Department: Air Force (GR-D-QAG)

(v) Prior Related Cases, if any: GR-D-QCH, GR-D-SNX, GR-D-SNY

(vi) Sales Commission, Fee, etc. Paid, Offered, or Agreed to be Paid: None

(vii) Sensitivity of Technology Contained in Defense Article or Defense Services Proposed to be Sold: None

(viii) Date Report Delivered to Congress: August 3, 2021

* As defined in Section 47(6) of the Arms Export Control Act.

POLICY JUSTIFICATION

Greece—F-16 Sustainment Materiel and Services

The Government of Greece has requested to buy U.S. Government and contractor engineering, technical, and logistics support services for F-16 Aircraft Structural Integrity Program (ASIP), F-16 Aircrew Training Device (ATD), Low Altitude Targeting and Infrared for Night (LANTIRN), and Reconnaissance (RECCE) Pods support programs; aircraft classified and unclassified aircraft software and software support; Multifunctional Information Distribution System (MIDS) software support; Joint Mission Planning Software (JMPS) support; participation in Electronic Combat International Security Assistance Program (ECISAP), International Engine Management Program (IEMP), and technical coordination groups; other aircraft and engine hardware and software modifications and support; spare and repair/return parts and equipment; personnel training and training equipment; publications, manuals, and technical documentation; and other related elements of aircraft maintenance and program support. The total estimated value is $270 million.

This proposed sale will support the foreign policy and national security objectives of the United States by helping to improve the security of a NATO ally, which is an important partner for political stability and economic progress in Europe.

The proposed sale will improve Greece's capability to meet current and future threats by providing agile logistics support to its F-16 program, encompassing aspects of aircrew training and aircraft maintenance. The ability to provide this level of support to the F-16 program will increase its inter-operability with NATO forces and enhance its ability to provide for security of its borders. Greece has demonstrated a continued commitment to modernizing its military and will have no difficultly absorbing this additional sustainment support into its armed forces.

The proposed sale of these services will not alter the basic military balance in the region.

The principal contractors for this proposed sale are L3/Harris International, Melbourne, Florida; Lockheed-Martin Aero Corporation, Fort Worth, Texas; Collins Aerospace, Charlotte, North Carolina; Northrop Grumman Corporation, Falls Church, Virginia; Raytheon Company, Waltham, Massachusetts; and Atec, Incorporated, Houston, Texas. The purchaser typically requests offsets. Any offset agreement will be defined in negotiations between the purchaser and the contractor(s).

Implementation of this proposed sale will not require the assignment of any additional U.S. Government or contractor representatives outside the United States.

There will be no adverse impact on U.S. defense readiness as a result of this proposed sale.

[FR Doc. 2023-05826 Filed 3-21-23; 8:45 am]

BILLING CODE 5001-06-P